ENVIRONMENTAL PROTECTION AGENCY

[EPA-HQ-OAR-2012-0103; FRL-9975-01-OMS]

Information Collection Request Submitted to OMB for Review and Approval; Comment Request; Diesel Emissions Reduction Act (DERA) and Clean School Bus (CSB) Rebate Programs

AGENCY: Environmental Protection Agency (EPA).

ACTION: Notice.

SUMMARY: The Environmental Protection Agency (EPA) has submitted an information collection request (ICR), Diesel Emissions Reduction Act (DERA) and Clean School Bus (CSB) Rebate Programs (EPA ICR No. 2461.04, OMB Control No. 2060-0686) to the Office of Management and Budget (OMB) for review and approval in accordance with the Paperwork Reduction Act. This is a proposed extension of the ICR, which is currently approved through June 30, 2022. Public comments were previously requested via the Federal Register on August 16, 2021 and February 2, 2022, both with 60-day comment periods. This notice allows for an additional 30 days for public comments. A fuller description of the ICR is given below, including its estimated burden and cost to the public. An agency may not conduct or sponsor and a person is not required to respond to a collection of information unless it displays a currently valid OMB control number.

DATES: Additional comments may be submitted on or before July 28, 2022.

ADDRESSES: Submit your comments to EPA, referencing Docket ID No. EPA-HQ-OAR-2012-0103, online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Jason Wilcox, Office of Transportation and Air Quality, (6406A), Environmental Protection Agency, 1200 Pennsylvania Ave. NW, Washington, DC 20460; telephone number: 202-343- 9571; fax number: 202-343-2803; email address: wilcox.jason@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This is an extension of the current Information Collection Request (ICR) for the Diesel Emissions Reduction Act program (DERA) authorized by Title VII, Subtitle G (Sections 791 to 797) of the Energy Policy Act of 2005 (Pub. L. 109-58), as amended by the Diesel Emissions Reduction Act of 2010 (Pub. L. 111-364) and Division S (Section 101) of the Consolidated Appropriations Act, 2021 (Pub. L. 116-260), codified at 42 U.S.C. 16131 et seq. DERA provides the Environmental Protection Agency (EPA) with the authority to award grants, rebates or low-cost revolving loans on a competitive basis to eligible entities to fund the costs of projects that significantly reduce diesel emissions from mobile sources through implementation of a certified engine configuration, verified technology, or emerging technology. Eligible mobile sources include buses (including school buses), medium heavy-duty or heavy heavy-duty diesel trucks, marine engines, locomotives, or nonroad engines or diesel vehicles or equipment used in construction, handling of cargo (including at ports or airports), agriculture, mining, or energy production. In addition, eligible entities may also use funds awarded for programs or projects to reduce long-duration idling using verified technology involving a vehicle or equipment described above. The objective of the assistance under this program is to achieve significant reductions in diesel emissions in terms of tons of pollution produced and reductions in diesel emissions exposure, particularly from fleets operating in areas designated by the Administrator as poor air quality areas. EPA uses approved procedures and forms to collect necessary information to operate its grant and rebate programs. EPA has been providing rebates under DERA since Fiscal Year 2012. EPA is requesting an extension of the current ICR, which is approved through June 30, 2022, for forms needed to collect necessary information to operate a rebate program as authorized by Congress under the DERA program.

As part of this extension, EPA is revising the ICR to address the needs of the Clean School Bus (CSB) Program. This program is authorized by Title XI, Section 71101 of the Infrastructure Investment and Jobs Act (Pub. L. 117-58). The new program, like DERA, allows for rebates and grants for school bus replacement projects that reduce emissions.

EPA will collect information from applicants who wish to apply for a rebate under DERA or CSB. Information collected from applicants will ensure that they are eligible to receive funds, that funds are provided for eligible activities, and to satisfy the reporting requirements of DERA and CSB.

Form Numbers: 2060-0686.

Respondents/affected entities: Those interested in applying for a rebate under EPA's Diesel Emission Reduction Act (DERA) or Clean School Bus (CSB) Program and include but are not limited to the following NAICS (North American Industry Classification System) codes: 23 Construction; 482 Rail Transportation; 483 Water Transportation; 484 Truck Transportation; 485 Transit and Ground Passenger Transportation; 4854 School and Employee Bus Transportation; 48831 Port and Harbor Operations; 61111 Elementary and Secondary Schools; 61131 Colleges, Universities, and Professional Schools; 9211 Executive, Legislative, and Other Government Support; and 9221 Justice, Public Order, and Safety Activities.

Respondent's obligation to respond: Voluntary.

Estimated number of respondents: 3,000 (total).

Frequency of response: Voluntary as needed.

Total estimated burden: 17,287 hours (per year). Burden is defined at 5 CFR 1320.03(b).

Total estimated cost: $732,996.58 (per year), includes $0 annualized capital or operation & maintenance costs.

Changes in the Estimates: There is no change in the total estimated respondent burden compared with the ICR currently approved by OMB.

Courtney Kerwin,
Director, Regulatory Support Division.

[FR Doc. 2022-13758 Filed 6-27-22; 8:45 am]

BILLING CODE 6560-50-P